DEPARTMENT OF ENERGY

Federal Energy Regulatory Commission

Combined Notice of Filings #1

February 19, 2008.

Take notice that the Commission received the following electric rate filings:

Docket Numbers: ER08-400-002.

Applicants: CalPeak Power-El Cajon, LLC.

Description: CalPeak Power-El Cajon, LLC submits an amendment to its 1/23/08 amended filing of Reliability Must-Run Service Agreement between CalPeak El Cajon and the California Independent System Operator Corporation.

Filed Date: 02/13/2008.

Accession Number: 20080215-0072.

Comment Date: 5 p.m. Eastern Time on Wednesday, March 05, 2008.

Docket Numbers: ER08-559-000.

Applicants: Wisconsin Electric Power Company.

Description: Wisconsin Electric Power Company submits a Notice of Cancellation of Joint Operating Agreement with Edison Sault Electric Company.

Filed Date: 02/14/2008.

Accession Number: 20080215-0031.

Comment Date: 5 p.m. Eastern Time on Thursday, March 06, 2008.

Docket Numbers: ER08-561-000.

Applicants: Benton County Wind Farm, LLC.

Description: Benton County Wind Farm, LLC submits its proposed market-based rate tariff entitled FERC Electric Tariff 1 for its electric generating facility located in Benton County, Indiana.

Filed Date: 02/12/2008.

Accession Number: 20080215-0032.

Comment Date: 5 p.m. Eastern Time on Tuesday, March 04, 2008.

Docket Numbers: ER08-562-000.

Applicants: Duke Energy Indiana, Inc

Description: Duke Energy Indiana, Inc. submits a notice of cancellation, cancelling the transmission system to transmission system Interconnection Agreement with Hoosier Energy Rural Electric Coop, Inc.

Filed Date: 02/14/2008.

Accession Number: 20080215-0058.

Comment Date: 5 p.m. Eastern Time on Thursday, March 06, 2008.

Docket Numbers: ER08-564-000.

Applicants: Vision Power Systems, Inc.

Description: Vision Power Systems Inc submits Petition for Acceptance of Initial Tariff, Waivers and Blanket Authority.

Filed Date: 02/14/2008.

Accession Number: 20080215-0030.

Comment Date: 5 p.m. Eastern Time on Thursday, March 06, 2008.

Take notice that the Commission received the following PURPA 210(m)(3) filings:

Docket Numbers: QM08-3-001.

Applicants: Alliant Energy Corporate Services, Inc.

Description: Additional Information and Clarification of Alliant Energy Corporate Services, Inc.

Filed Date: 02/14/2008.

Accession Number: 20080214-5056.

Comment Date: 5 p.m. Eastern Time on Thursday, March 13, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-4201 Filed 3-4-08; 8:45 am]

BILLING CODE 6717-01-P